DEPARTMENT OF TRANSPORTATION

Federal Aviation Administration

Auction Procedures for Allocating Slots at LaGuardia, John F. Kennedy International, and Newark Liberty International Airports

AGENCY: Federal Aviation Administration (FAA), DOT.

ACTION: Notice of availability.

SUMMARY: In accordance with rulemaking activity that is not yet complete, the FAA may use an auction to allocate leases for a certain number of slots at New York's three main airports: John F. Kennedy (JFK), Newark (EWR), and LaGuardia (LGA). If the FAA decides to conduct auctions, the number of slots to be allocated via auction will be specified in the final rule and may be supplemented by additional capacity and/or slots returned to the FAA. As specified in the proposed Congestion Management Rule for LaGuardia Airport and the proposed Congestion Management Rule for John F. Kennedy International Airport and Newark Liberty International Airport, FAA anticipates, if the rule is adopted, conducting an auction of slot leases at these airports once a year over a five year period.¹ The FAA expects to conduct the first auction, if any, on January 12, 2009. This auction will be for slots at LGA, JFK, and EWR. Only certificated U.S. aircraft operators or foreign airlines may participate in these auctions.²

¹ See Docket No. FAA-2006-25709; Notice No. 08-04 and Docket No. FAA-2008-0517; Notice No. 08-05.

² For the purpose of this document an aircraft operator is eligible if it is either: (1) A U.S. operator that holds a Certificate issued under Part 119 of the Federal Aviation Regulations (FAR), 14 CFR part 119, and conducts operations under either Part 121 or Part 135 of the FAR, 14 CFR parts 121 or 135; or (2) a foreign air carrier that either holds a foreign air carrier permit issued by the U.S. Department of Transportation under 49 U.S.C. Section 41302 or has exemption authority pursuant to 49 U.S.C. 40109.

If you are interested in commenting on the planned auction procedures you will be able to find additional information and procedures for providing comments at http://faaco.faa.gov.

FOR FURTHER INFORMATION CONTACT: Dr. Jeffrey C. Wharff, Federal Aviation Administration, Office of Aviation Policy and Plans, 800 Independence Avenue, SW., Washington, DC 20591; telephone: 202-267-3274; His e-mail is Jeffrey.Wharff@FAA.gov.

Issued in Washington, DC, on September 11, 2008.
Nan Shellabarger,
Acting Deputy Assistant Administrator for Policy, Planning, and Environment.

[FR Doc. E8-21592 Filed 9-15-08; 8:45 am]

BILLING CODE 4910-13-P